DEPARTMENT OF TRANSPORTATION

Federal Motor Carrier Safety Administration

[Docket No. FMCSA-2016-0130]

Commercial Driver's License: Application for Exemption; Missouri Department of Revenue (DOR)

AGENCY: Federal Motor Carrier Safety Administration (FMCSA), DOT.

ACTION: Notice of application for renewal of exemption; request for comments.

SUMMARY: FMCSA announces that it has received an application from the Missouri DOR for a renewal of its exemption from the Agency's commercial driver's license (CDL) regulations. These regulations require a driver to pass the general knowledge test before being issued a Commercial Learner's Permit (CLP). The exemption renewal would allow the Missouri DOR to continue to waive the mandatory knowledge test requirement for qualified veterans who participated in dedicated training in approved military programs. The Missouri DOR states that its goal is to continue to assist qualified veterans in obtaining employment when returning to the civilian workforce, and granting this exemption renewal will assist those veterans who have already been through extensive military training. The Missouri DOR currently holds an exemption for the period of October 27, 2016, through October 29, 2018, and is requesting a 2-year renewal. FMCSA requests public comment on the Missouri DOR's application for exemption.

DATES: Comments must be received on or before September 7, 2018.

ADDRESSES: You may submit comments identified by Federal Docket Management System (FDMS) Number FMCSA-2016-0130 by any of the following methods:

• Federal eRulemaking Portal: www.regulations.gov. Follow the online instructions for submitting comments.

• Mail: Docket Management Facility, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m., Monday through Friday, except Federal holidays.

• Fax: 1-202-493-2251.

Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE, Washington, DC, between 9 a.m. and 5 p.m., ET, Monday through Friday, except Federal holidays. The on-line FDMS is available 24 hours each day, 365 days each year. If you want acknowledgement that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: For information concerning this notice, contact Mr. Richard Clemente, FMCSA Driver and Carrier Operations Division; Office of Carrier, Driver and Vehicle Safety Standards; Telephone: (202) 366-2722. Email: MCPSD@dot.gov. If you have questions on viewing or submitting material to the docket, contact Docket Services, telephone (202) 366-9826.

SUPPLEMENTARY INFORMATION:

I. Public Participation and Request for Comments

FMCSA encourages you to participate by submitting comments and related materials.

Submitting Comments

If you submit a comment, please include the docket number for this notice (FMCSA-2016-0130), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number, “FMCSA-2016-0130” in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

Viewing Comments and Documents

To view comments, as well as documents mentioned in this preamble as being available in the docket, go to www.regulations.gov and insert the docket number, “FMCSA-2016-0130” in the “Keyword” box and click “Search.” Next, click “Open Docket Folder” button and choose the document listed to review. If you do not have access to the internet, you may view the docket online by visiting the Docket Management Facility in Room W12-140 on the ground floor of the DOT West Building, 1200 New Jersey Avenue SE, Washington, DC 20590, between 9 a.m. and 5 p.m., e.t., Monday through Friday, except Federal holidays.

II. Legal Basis

FMCSA has authority under 49 U.S.C. 31136(e) and 31315 to grant exemptions from certain Federal Motor Carrier Safety Regulations (FMCSRs). FMCSA must publish a notice of each exemption request in the Federal Register (49 CFR 381.315(a)). The Agency must provide the public an opportunity to inspect the information relevant to the application, including any safety analyses that have been conducted. The Agency must also provide an opportunity for public comment on the request.

The Agency reviews the safety analyses and the public comments, and determines whether granting the exemption would likely achieve a level of safety equivalent to, or greater than, the level that would be achieved by compliance with the current regulation (49 CFR 381.305). The decision of the Agency must be published in the Federal Register (49 CFR 381.315(b)) with the reason for the grant or denial, and, if granted, the specific person or class of persons receiving the exemption, and the regulatory provision or provisions from which exemption is granted. The notice must also specify the effective period of the exemption (up to 5 years), and explain the terms and conditions of the exemption. The exemption may be renewed (49 CFR 381.300(b)).

III. Request for Exemption

The Missouri DOR's initial exemption application from the provisions of 49 CFR 383.71(a)(2)(ii) was submitted in 2016; a copy is in the docket identified at the beginning of this notice. That 2016 application describes fully the nature of the Missouri DOR's request, and the reasons for its request. The Missouri DOR contends that those qualified veterans who participated in dedicated training in approved military programs have already received numerous hours of classroom training, practical skills training, and one-on-one road training that are essential for safe driving. The original exemption was granted on October 27, 2016 (81 FR 74861) and expires on October 29, 2018. Missouri DOR now requests a 2-year renewal of the exemption. The current exemption allows all States to waive the CDL knowledge test for qualified current or former military personnel who participated in training in military heavy-vehicle driving programs, but does not require them to do so.

The Missouri DOR provided several reasons for this renewal of the exemption request, including:

• The proposed regulatory change to 49 CFR parts 383 and 384 for Military Licensing and State Commercial Driver Licensing Reciprocity [82 FR 26894, June 12, 2017] has not yet been posted as a final rulemaking by the Agency;

• The Missouri legislature did not pass the enabling legislation to pursue full implementation during a recent legislative session; and

• Missouri, as well as other State Driver Licensing Agencies (SDLAs) that have implemented or want to pursue implementation of these provisions, must have an exemption renewal in place until such time as the proposed regulatory change is approved and posted as final.

In addition, because the issue concerning the Missouri DOR request could be applicable in each of the States, FMCSA requests public comment on whether the exemption, if granted, should cover all SDLAs.

A copy of the Missouri DOR's application for exemption renewal is available for review in the docket for this notice.

Issued on: July 27, 2018.
Larry W. Minor,
Associate Administrator for Policy.

[FR Doc. 2018-16949 Filed 8-7-18; 8:45 am]

BILLING CODE 4910-EX-P